DEPARTMENT OF JUSTICE

[OMB Number 1117-0012]

Agency Information Collection Activities; Proposed eCollection eComments Requested; Extension of a Previously Approved Collection; Application for Registration—DEA Form 225, Application for Registration Renewal—DEA Form 225a, Affidavit for Chain Renewal—DEA Form 225b

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until May 27, 2025.

FOR FURTHER INFORMATION CONTACT: If you have additional comments especially on the estimated public burden or associated response time, suggestions, or need a copy of the proposed information collection instrument with instructions or additional information, please contact Heather E. Achbach, Regulatory Drafting and Policy Support Section, Drug Enforcement Administration; Mailing Address: 8701 Morrissette Drive, Springfield, Virginia 22152; Telephone: (571) 362-3261; Email: Heather.E.Achbach@dea.gov or DEA.PRA@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Controlled Substances Act requires all businesses and individuals who manufacture, distribute, import, export, and conduct research and laboratory analysis with controlled substances to register with DEA. 21 U.S.C. 822, 21 CFR 1301.11 and 1301.13. Registration is a necessary control measure and helps to prevent diversion by ensuring the closed system of distribution of controlled substances can be monitored by DEA and the businesses and individuals handling controlled substances are qualified to do so and are accountable.

Overview of This Information Collection

1. Type of Information Collection: Extension of a previously approved collection.

2. The Title of the Form/Collection: Application for Registration—DEA Form 225, Application for Registration Renewal—DEA Form 225a, Affidavit for Chain Removal—DEA Form 225b.

3. The agency form number, if any, and the applicable component of the Department sponsoring the collection: The form numbers are DEA Forms 225, 225a, and 225b. The applicable component within the Department of Justice is the Drug Enforcement Administration, Diversion Control Division.

4. Affected public who will be asked or required to respond, as well as the obligation to respond:

Affected Public (Primary): Business or other for-profit.

Affected Public (Other): Not-for-Profit institutions, Federal, State, local, and tribal governments.

5. An estimate of the total number of respondents and the amount of time estimated for an average respondent to respond: The DEA estimates that 16,560 registrants participate in this information collection. The time per response is 25 minutes to complete the DEA Form 225 (new), 10 minutes to complete DEA Form 225a (renewal), and 1 hour to complete DEA Form 225b (chain renewal).

6. An estimate of the total annual burden (in hours) associated with the collection: DEA estimates that this collection takes 3,323 annual burden hours.

7. An estimate of the total annual cost burden associated with the collection, if applicable: $0.

Total Burden Hours
Activity | Number of respondents | Total annual responses | Time per response (hours) | Total annual burden (hours)
DEA Form 225 | 2,006 | 2,006 | 0.42 Hours (25 mins) | 843
DEA Form 225a | 14,547 | 14,547 | 0.17 Hours (10 mins) | 2,473
DEA Form 225b | 7 | 7 | 1 Hour | 7
Unduplicated Totals | 16,560 | 16,560 | 0.20066 Hour | 3,323

If additional information is required contact: Darwin Arceo, Department Clearance Officer, United States Department of Justice, Justice Management Division, Policy and Planning Staff, Two Constitution Square, 145 N Street NE, 4W-218, Washington, DC.

Dated: March 20, 2025.
Darwin Arceo,
Department Clearance Officer for PRA, U.S. Department of Justice.

[FR Doc. 2025-05034 Filed 3-24-25; 8:45 am]

BILLING CODE 4410-09-P